DEPARTMENT OF HEALTH AND HUMAN SERVICES

National Institutes of Health

Center for Scientific Review; Amended Notice of Meeting

Notice is hereby given of a change in the meeting of the Cardiovascular and Respiratory Sciences Integrated Review Group, Therapeutic Development and Preclinical Studies Study Section, October 23, 2024, 08:00 a.m. to October 24, 2024, 07:00 p.m., Embassy Suites at the Chevy Chase Pavilion, 4300 Military Road NW, Washington, DC 20015, which was published in the Federal Register on September 25, 2024, FR Doc. No. 2024-21898, 89 FR 78319.

This meeting is being amended to change the meeting format from a hybrid meeting (in-person and virtual) to in-person only. The meeting is closed to the public.

Dated: October 1, 2024.
Lauren A. Fleck,
Program Analyst, Office of Federal Advisory Committee Policy.

[FR Doc. 2024-22979 Filed 10-3-24; 8:45 am]

BILLING CODE 4140-01-P